DEPARTMENT OF DEFENSE

Office of the Secretary

Department of Defense Selection Criteria for Closing and Realigning Military Installations Inside the United States

AGENCY: Department of Defense (DoD).

ACTION: Final selection criteria.

SUMMARY: The Secretary of Defense, in accordance with section 2913(a) of the Defense Base Closure and Realignment Act of 1990, Public Law 101-510, as amended, 10 U.S.C. 2687 note, is required to publish the final selection criteria to be used by the Department of Defense in making recommendations for the closure or realignment of military installations inside the United States.

EFFECTIVE DATE: February 12, 2004.

FOR FURTHER INFORMATION CONTACT: Mr. Mike McAndrew, Base Realignment and Closure Office, ODUSD(I&E), (703) 614-5356.

SUPPLEMENTARY INFORMATION:

A. Final Selection Criteria

The final criteria to be used by the Department of Defense to make recommendations for the closure or realignment of military installations inside the United States under the Defense Base Closure and Realignment Act of 1990, Public Law 101-510, as amended, 10 U.S.C. 2687 note, are as follows:

In selecting military installations for closure or realignment, the Department of Defense, giving priority consideration to military value (the first four criteria below), will consider:

Military Value

1. The current and future mission capabilities and the impact on operational readiness of the Department of Defense's total force, including the impact on joint warfighting, training, and readiness.

2. The availability and condition of land, facilities and associated airspace (including training areas suitable for maneuver by ground, naval, or air forces throughout a diversity of climate and terrain areas and staging areas for the use of the Armed Forces in homeland defense missions) at both existing and potential receiving locations.

3. The ability to accommodate contingency, mobilization, and future total force requirements at both existing and potential receiving locations to support operations and training.

4. The cost of operations and the manpower implications.

Other Considerations

5. The extent and timing of potential costs and savings, including the number of years, beginning with the date of completion of the closure or realignment, for the savings to exceed the costs.

6. The economic impact on existing communities in the vicinity of military installations.

7. The ability of both the existing and potential receiving communities' infrastructure to support forces, missions, and personnel.

8. The environmental impact, including the impact of costs related to potential environmental restoration, waste management, and environmental compliance activities.

B. Analysis of Public Comments

The Department of Defense (DoD) received a variety of comments from the public, members of Congress, and other elected officials in response to the proposed DoD selection criteria for closing and realigning military installations inside the United States. The Department also received a number of letters from members of Congress regarding BRAC selection criteria before publication of the draft criteria for comment. The Department has treated those letters as comments on the draft criteria and included the points raised therein in our assessment of public comments. The comments can be grouped into three categories: general, military value, and other considerations. The following is an analysis of these comments.

(1) General Comments

(a) Numerous commentors expressed support for the draft criteria without suggesting changes and used the opportunity to provide information on their particular installations. DoD understands and greatly appreciates the high value that communities place on the installations in their area and the relationships that have emerged between the Department and local communities. Both the BRAC legislation and DoD's implementation of it ensure that all installations will be treated equally in the base realignment and closure process.

(b) Several commentors gave various reasons why a particular installation, type of installation, or installations designated by Congress as unique assets or strategic ports, should be eliminated from any closure or realignment evaluation. Public Law 101-510 directs DoD to evaluate all installations equally. The Department has issued guidance to all DoD Components instructing them to treat all installations equally.

(c) Some commentors indicated the selection criteria should reflect the statutory requirement of section 2464 of title 10, United States Code, to maintain a core logistics capability, and the statutory limitation of Section 2466 that the Department spend no more than 50% of its depot-level maintenance and repair funds to contract for the performance of such workload. Consistent with the development and application of the criteria used in all previous rounds, it is inappropriate to include any statutory constraints in the selection criteria because they are too varied and numerous and could preclude evaluation of all installations equally. The absence of these requirements in the text of the criteria, however, should not be construed as an indication that the Department will ignore these or any other statutory requirements or limitations in making its final recommendations.

(d) The Department did not receive any requests from local governments that a particular installation be closed or realigned pursuant to section 2914(b)(2) of Public Law 101-510, which states that the Secretary shall consider any notice received from a local government in the vicinity of a military installation that the local government would approve of the closure or realignment of the installation. A few private citizens, however, asked that a particular installation be closed or that operations be restricted to limit noise or other community impacts.

(e) A few commentors expressed concern over the broad nature of the criteria and requested greater detail, including in some cases requests for definitions, specificity regarding select functions, and explanations of when a closure as opposed to a realignment was appropriate. While the Department appreciates a desire for detail, the inherent mission diversity of the Military Departments and Defense Agencies makes it impossible for DoD to specify detailed criteria that could be applied to all installations and functions within the Department. Broad criteria allow flexibility of application across a wide range of functions within the Department.

(f) A few commentors recommended assigning specific weights to individual criteria and applying those criteria uniformly across the Department. It would be impossible for DoD to specify weights for each criterion that could be applied uniformly to all installations and functions because of the inherent mission diversity within the Department. Other than the requirement to give the military value criteria priority consideration, the numbering reflected in the listing of the criteria are not intended to assign an order of precedence to an individual criterion.

(g) One commentor suggested that section 2687 of title 10, United States Code, requires the Department to exclude military installations with less than 300 authorized civilian positions from consideration for closure or realignment under BRAC. While section 2687 allows the Department to close or realign such installations outside the BRAC process, it does not preclude their consideration within BRAC. In order for the Department to reconfigure its current infrastructure into one in which operational capacity maximizes both warfighting capability and efficiency, it must undertake an analysis of the totality of its infrastructure, not just those with 300 or more authorized civilian positions.

(h) Some commentors were concerned that BRAC would be used as a “back door” method of privatizing civilian positions. DoD's civil service employees are an integral part of successful accomplishment of defense missions. Section 2904 specifically limits the ability of the Secretary of Defense to carry out a privatization in place of a military installation recommended for closure or realignment to situations where that option is specified in the recommendations of the Commission and determined by the Commission to be the most cost-effective method of implementation of the recommendation. Therefore, if any closure or realignment recommendation includes privatization, it will be clearly stated in the recommendation.

(i) One commentor suggested that the Department needed to conduct a comprehensive study of U.S. military installations abroad and assess whether the existing U.S. base infrastructure meets the needs of current and future missions. The BRAC statute applies to military installations inside the United States, the District of Columbia, the Commonwealth of Puerto Rico, Guam, the Virgin Islands, American Samoa, and any other commonwealth, territory, or possession of the United States. As a parallel action, the Secretary of Defense has already undertaken a comprehensive study of global basing and presence—the Integrated Global Presence and Basing Strategy (IGPBS). BRAC will accommodate any decisions from that study that relocate forces to the U.S. DoD will incorporate our global basing strategy into a comprehensive BRAC analysis, thereby ensuring that any overseas redeployment decisions inform our recommendations to the BRAC Commission.

(j) A few commentors cautioned the Department against using the authority provided by section 2914(c) to close and retain installations in inactive status because of the negative effect such action might have on the relevant local community. The Department recognizes that job creation gained through the economic reuse of facilities is critically important to mitigate the negative impact of BRAC recommendations. As such, the Department will exercise the utmost caution and consideration when exercising its authority to retain installations in an inactive status. It should be noted that the Department has always had this authority, even though its appearance in the authorizing legislation for the 2005 round would indicate it is a new authority. As such, the Department's actions in the four previous base closure rounds demonstrate that it will be exercised judiciously.

(k) A few commentors asked the Department to give priority to relocating activities within the same state or local community. The Department recognizes that the economic impact of BRAC reductions can be lessened by moving functions to geographically proximate locations. As specified in the BRAC legislation, however, military value must be the primary consideration when making these decisions. Specifically, those factors that are set out in criteria one through four are the most important considerations when selecting receiving locations.

(2) Military Value Comments

(a) A majority of comments received dealt with the military value criteria. In the aggregate, military value refers to the collection of attributes that determine how well an installation supports force structure, functions, and or missions.

(b) One commentor was concerned that the Department would lose sight of the value of service-unique functions when applying criteria that include reference to jointness. The Department recognizes the distinct military value provided by both service-unique functions and those functions that are performed by more than one service. Accordingly, the Secretary established a process wherein the Military Departments are responsible for analyzing their service-unique functions, while Joint Cross-Service Groups, which include representatives from each of the military services, analyze the common business-oriented support functions.

(c) A few commentors were concerned that criterion two, which captures the legislative requirements set out in Section 2913(b)(1)-(3), did not recite verbatim the language in the BRAC statute. They urged incorporation of “Preservation of” into the final criteria to ensure that the 2005 BRAC round preserve the infrastructure necessary to support future military requirements. Selection criteria must facilitate discriminating among various military installations, assessing the value of each and comparing them against each other to see which installations offer the greatest value to the Department. Criteria one through three compare the respective assets of different military installations against each other, valuing those with more of those assets more highly than those without those assets. By valuing the installations with more of these assets higher, the Department “preserves” these valuable assets set out in the criteria. If the Department were to modify the criteria to include “preservation,” as suggested in the comment, we would be forced to assess how an installation “preserves” something rather than whether an installation possesses the assets worthy of preservation, potentially undercutting the statutory factors rather than furthering those factors. While the criteria proposed by the Secretary do not recite the statutory language verbatim, they do fully reflect the nine factors set out in the statute, and as such are legally sufficient. Additionally, the Department does not agree with the assertion that the criteria must contain the word “preservation” in order to comply with congressional intent. The report of the Committee of Conference to accompany S. 1438, the National Defense Authorization Act for Fiscal Year 2002, refers to the preceding list of requirements as “factors that must be evaluated and incorporated in the Secretary's final list of criteria.” The BRAC statute does not require, as a matter of law, a verbatim recitation of the factors set out in Section 2913. On the contrary, a requirement for a verbatim recitation is inconsistent with the requirements for publication of draft criteria, an extensive public comment period, and finalization of criteria only after reviewing public comments. If the Secretary were bound to adopt the statutory language as his criteria, the detailed publication process required by Congress would be meaningless.

(d) A few commentors stressed the importance of maintaining a surge capacity. Surge requirements can arise for any number of reasons, including contingencies, mobilizations, or extended changes in force levels. Criteria one and three capture the concept of surge capacity as they are currently drafted. As was the case with the criteria used in the past three rounds of BRAC, criterion one requires the Department to consider “current and future” mission capabilities and criterion three assesses the “ability to accommodate contingency, mobilization and future total force requirements”. In 1999, after three rounds of BRAC using these criteria (and similar criteria used in the first round of BRAC), the Department looked closely at its ability to accommodate increased requirements and found that even after four rounds of base realignments and closures it could accommodate the reconstitution of 1987 force structure—a significantly more robust force than exists today—which is a more demanding scenario than a short term mobilization. Further, as required by Section 2822 of the National Defense Authorization Act for Fiscal Year 2004 (Pub. L. 108-136), the Secretary, as part of his assessment of probable threats to national security, will determine the “potential, prudent, surge requirements to meet those threats.”

(e) Numerous commentors stated that previous BRAC rounds failed to evaluate research, development, test and evaluation, engineering, procurement, and technical facilities accurately, because of the lack of effective criteria to consider the features essential to their performance. They noted that the criteria applied to such facilities in previous rounds were largely the same criteria that were applied to operations, training and maintenance facilities serving very different functions. DoD highly values its research, development, test and evaluation, engineering, procurement, and technical facilities. Research, development, engineering, procurement and other technical capabilities are elements of military value captured within criteria one through four. The Department will consider military value in a way that incorporates these elements.

(f) Several commentors also raised concerns that the criteria did not take into account the availability of intellectual capital, critical trade skills, a highly trained work force, allied presence, and the synergy among nearby installations and between DoD facilities and nearby industrial clusters and academic institutions. DoD appreciates the importance of having an available pool of intellectual capital and critical trade skills that make up, and allow us to recruit and retain, a highly trained and experienced work force, as well as the synergy provided by nearby facilities. To the extent that the availability of highly skilled civilian or contractor work forces and relationships with local institutions and other installations influence our ability to accomplish the mission, they are captured in criteria one, three and seven.

(g) Some commentors urged DoD to consider strategic location and irreplaceable properties and facilities as part of military value. The availability and condition of land and facilities are an integral part of military value, specifically covered under criterion two. Furthermore, the strategic location of DoD facilities informs criteria one and three.

(h) Some commentors said that an installation's demonstrated ability to transform, streamline business operations, and manage successful programs should be considered as part of military value. In some instances commentors praised the outstanding work of a particular installation or group of installations. DoD recognizes and appreciates the outstanding work done by its installations. Criteria one and three capture both the ability to perform a mission and the quality of that work—both of which, in turn, capture the willingness to transform and streamline.

(i) Some commentors recommended that DoD consider an installation's role in homeland defense, security, domestic preparedness, and the war on terrorism as a part of military value. Some suggested that an installation's proximity to and ability to protect vital national assets, transportation facilities, major urban centers and international borders was a key consideration, while others indicated that geographic diversity or complete isolation should be the real objective in order to enhance security. The security of our nation, whether expressed as homeland defense, domestic preparedness, or fighting the war on terrorism, is an important DoD mission. Both the BRAC legislation and DoD's implementation of it ensure that homeland defense and security are considered in the BRAC process. Specifically, criterion two requires DoD Components to consider “[t]he availability and condition of land, facilities and associated airspace * * * as staging areas for the use of the Armed Forces in homeland defense missions.” Additionally, as a mission of DoD, all of these issues are captured by the requirements of criteria one and three.

(j) Some commentors noted that, in some areas of the country, expanding civilian use of adjacent lands is encroaching upon military properties and has impacted critical training requirements and preparations for deployments. Some said that installations located in rural regions with access to large areas of operational airspace over land and water as well as direct ingress/egress routes from water to land will be key to future military operational and training requirements. The issue of encroachment is captured by criterion two which requires the Department to consider the availability and condition of land, facilities and associated airspace.

(k) Some commentors recommended that DoD consider the difficulty of relocating missions and functions requiring federal nuclear licenses or environmental permits, as part of military value. DoD recognizes the importance of federal licenses and permits. The ability to accommodate current and future force requirements, which includes Federal licensing and permitting requirements, is covered under criteria one, two and three. Furthermore, the impact of environmental compliance activities (i.e., permits and licenses) is also specifically captured in criterion eight.

(l) A few commentors were concerned that the “cost of operations” language in criterion four would not be a meaningful measure of military value because it would appear to encourage the closure or realignment of an installation in a high cost of living area, despite important strategic reasons for retaining that installation. Because DoD operates in a resource constrained environment, all resources—land, facilities, personnel, and financial—have value. Monetary resources are an inextricable component of military value because all equipment, services, and military salaries are dependent on the availability of this resource. Therefore, the extent to which one installation can be operated at less cost than another is worthy of consideration, particularly for business operations, although the importance of this will vary depending on the function involved.

(3) Other Considerations

(a) Criteria five through eight deal with other considerations, such as costs and savings and economic, community, and environmental impacts.

(b) Some commentors recommended a standardized interpretation of the cost criteria. The Department agrees that costs and savings must be calculated uniformly. To that end, we are improving the Cost of Base Realignment Actions (COBRA) model used successfully in previous BRAC rounds to address issues of uniformity and will provide it to the Military Departments and the Joint Cross-Service Groups for calculation of costs, savings, and return on investment in accordance with criterion five.

(c) Several commentors stated that total mission support costs associated with reestablishing or realigning a military activity should be considered, including such things as the costs of reestablishing intellectual capital and relationships with nearby businesses and academic institutions, the costs associated with mission disruption, the costs of contractor relocations, and the availability and reliability of raw materials and supplies. DoD has improved the Cost of Base Realignment Actions (COBRA) model used in prior BRAC rounds to more accurately and appropriately reflect the variety of costs of base realignment and closure actions. DoD will provide it to the Military Departments and the Joint Cross-Service Groups for calculation of costs, savings, and return on investment in accordance with criterion five.

(d) A few commentors stated DoD should consider the total resource impact of a recommendation to the Federal Government and reflect both costs and savings. The Department understands the decision making value of comprehensive consideration of costs. In accordance with Section 2913(d), the Department's application of its cost and savings criterion will “take into account the effect of the proposed closure or realignment on the costs of any other activity of the Department of Defense or any other Federal agency that may be required to assume responsibility for activities at the military installations.” The Department will issue guidance to the Military Departments and the Joint Cross Service Groups that incorporates this requirement in the application of criterion five.

(e) Some commentors asked that DoD consider the impact of closing or realigning an installation on the local community and on military retirees in the area who rely on the installation's medical facilities, commissary, and other activities. While military value criteria must be the primary consideration, the impact of a closure or realignment on the local community, including military retirees residing therein, will be considered through criteria five, six, and seven. The DoD Components will calculate economic impact on existing communities by measuring the effects on direct and indirect employment for each recommended closure or realignment. These effects will be determined by using statistical information obtained from the Departments of Labor and Commerce. This is consistent with the methodology used in prior BRAC rounds to measure economic impact.

(f) Some commentors asked that DoD recognize that their state, facility or community was affected by closures and realignments in prior BRAC rounds and that it, therefore, be protected in this round. These and other commentors suggested that the Department view economic impact cumulatively or take into account the need of a community for an economic boost. Still others suggested that the current BRAC round respect decisions made in prior BRAC rounds—and not take any action inconsistent with a prior recommendation. DoD recognizes the impact that BRAC can have on local communities, and makes every effort in the implementation phase of BRAC to soften the effect of closures and realignments on local communities. The BRAC statute, however, specifically requires the Secretary to consider all military installations in the United States equally, without regard to whether that installation has previously been considered for closure or realignment.

(g) The United States General Accounting Office (GAO) stated that the draft criteria, if adopted, would add an element of consistency and continuity in approach with those of the past three BRAC rounds. It noted that its analysis of lessons learned from prior BRAC rounds affirmed the soundness of these basic criteria and generally endorsed their retention for the future, while recognizing the potential for improving the process by which the criteria are used in decision-making. It suggested that DoD clarify two issues: (1) The Department's intention to consider potential costs to other DoD activities or federal agencies that may be affected by a proposed closure or realignment recommendation under the criterion related to cost and savings, and (2) the extent to which the impact of costs related to potential environmental restoration, waste management, and environmental compliance activities will be included in cost and savings analyses of individual BRAC recommendations.

As discussed above, DoD recognizes that the BRAC legislation required it to consider cost impacts to other DoD entities and Federal agencies in its BRAC decision-making and will issue implementing guidance to ensure that such costs are considered under criterion five.

On the second point raised by GAO, which was echoed by a few other commentors, DoD policy guidance has historically stipulated that environmental restoration costs were not to be factored into analyses of costs and savings when examining potential installations for realignment and closure, since DoD was obligated to restore contaminated sites on military installations regardless of whether or not they were closed. DoD concurs with GAO that determining such costs could be problematic in advance of a closure decision, since reuse plans for BRAC properties would not yet be determined and studies to identify restoration requirements would not yet be completed. As suggested, DoD will issue guidance to clarify consideration of environmental costs.

(h) A few commentors suggested that criterion seven—the ability of both the existing and potential receiving communities” infrastructure to support forces, missions, and personnel “ be included in military value and receive priority consideration. DoD has demonstrated in previous BRAC rounds that factors falling within this criterion can be applied within the military value criteria if they directly relate to the elements of criteria one through four.

(i) A few commentors asked the Department to consider the social as well as the economic impact on existing communities. The Department recognizes that its installations can be key components of the social fabric of the communities in which they are located, in both a positive or negative sense. For instance, the BRAC statute requires that the Department consider any notice received from a local government in the vicinity of a military installation that it would approve of the closure or realignment of the installation. Additionally, because social impact is an intangible factor that would be difficult for the Department to quantify and measure fairly, issues of social impact are best addressed to the BRAC Commission during its process of receiving public input.

(j) A few commentors wanted to ensure that, as the Department considers the ability of community infrastructure to support the military, DoD view that ability as evolving, and consider the willingness and capacity of the community to make additional investments. The infrastructure provided by the communities surrounding our installations is a key component in their efficient and effective operation. As the BRAC legislation has established a stringent timetable for the Secretary to arrive at recommendations, the Department must focus on the existing, demonstrated ability of a community to support its installation, especially as potential investment actions may not translate into reality.

(k) One commentor requested clarification that criterion eight “ environmental impact “ includes consideration of the impact of the closure or realignment on historic properties. As has been the case in prior rounds of base closure, the Department will consider historic properties as a part of criterion eight.

(l) Several commentors stated that the criteria should consider the effect of closures and realignments on the quality of life and morale of military personnel and their families. The Department agrees that the quality of life provided to its military personnel and their families significantly contributes to the Department's ability to recruit and retain quality personnel. Military personnel are better able to perform their missions when they feel comfortable that their needs and those of their families are taken care of. Quality of life is captured throughout the criteria, particularly criterion seven.

C. Previous Federal Register References

1. 55 FR 49678, November 30, 1990: Draft selection criteria and request for comments.

2. 55 FR 53586, December 31, 1990: Extend comment period on draft selection criteria.

3. 56 FR 6374, February 15, 1991: Final selection criteria and analysis of comments.

4. 57 FR 59334, December 15, 1992: Final selection criteria.

5. 59 FR 63769, December 9, 1994: Final selection criteria

6. 68 FR 74221, December 23, 2003: Draft selection criteria and request for comments.

7. 69 FR 3335, January 23, 2004: Extend comment period on draft selection criteria.

Dated: February 10, 2004.
L.M. Bynum,
Alternate OSD Federal Register, Liaison Officer, Department of Defense.

[FR Doc. 04-3247 Filed 2-10-04; 2:04 pm]

BILLING CODE 5001-06-P